NUCLEAR REGULATORY COMMISSION

[NRC-2022-0158]

Holtec Decommissioning International, LLC, Palisades Nuclear Plant, Post-Shutdown Decommissioning Activities Report; Correction

AGENCY: Nuclear Regulatory Commission.

ACTION: Notice of receipt; availability; public meeting; and request for comment; correction.

SUMMARY: The U.S. Nuclear Regulatory Commission (NRC) is correcting a notice that was published in the Federal Register (FR) on August 26, 2022, regarding the post-shutdown decommissioning activities report (PSDAR) for the Palisades Nuclear Plant (Palisades). This notice provided receipt of the Palisades PSDAR and made it available for public comment, including the details of a public meeting in the vicinity of the Palisades site to discuss and collect comments on the PSDAR. This action is necessary to correct the time zone listed in association with the public meeting. The original notice lists the Palisades PSDAR public meeting time as 6 p.m. until 8 p.m. central time (CT), but the meeting will take place from 6 p.m. until 8 p.m. eastern time (ET), which is the local time zone for the Palisades site.

DATES: This document was published in the Federal Register on August 26, 2022.

ADDRESSES: Please refer to Docket ID NRC-2022-0158 when contacting the NRC about the availability of information regarding this document. You may obtain publicly available information related to this document using any of the following methods:

• Federal Rulemaking Website: Go to https://www.regulations.gov and search for Docket ID NRC-2022-0158. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The Palisades PSDAR is available in ADAMS under Accession No. ML20358A232.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Marlayna Doell, Office of Nuclear Material Safety and Safeguards, U.S. Nuclear Regulatory Commission, Washington, DC 20555-0001, telephone: 301-415-3178, email: Marlayna.Doell@nrc.gov.

SUPPLEMENTARY INFORMATION: In the FR on August 26, 2022, in FR Doc. 2022-18387, on page 52599, first paragraph of column 1 and second paragraph of column 3, correct “6:00 p.m. until 8:00 p.m. Central Time (CT) and 6:00 p.m. until 8:00 p.m. (CT)” to read “6 p.m. until 8 p.m. eastern time (ET) and 6 p.m. until 8 p.m. (ET),” respectively.

Dated: September 6, 2022.
For the Nuclear Regulatory Commission.
Marlayna V. Doell,
Project Manager, Reactor Decommissioning Branch, Division of Decommissioning, Uranium Recovery, and Waste Programs, Office of Nuclear Material Safety and Safeguards.

[FR Doc. 2022-19540 Filed 9-8-22; 8:45 am]

BILLING CODE 7590-01-P